DEPARTMENT OF TRANSPORTATION

Federal Aviation Administration

14 CFR Part 73

[Docket No. FAA-2025-0273; Airspace Docket No. 23-ASO-43]

RIN 2120-AA66

Establishment of Restricted Areas R-5305A, R-5305B, and R-5305C; Camp Lejeune, NC; and Restricted Areas R-5307A, R-5307B, and R-5307C; Cherry Point, NC

AGENCY: Federal Aviation Administration (FAA), DOT.

ACTION: Supplemental notice of proposed rulemaking (SNPRM).

SUMMARY: This action revises an earlier notice of proposed rulemaking (NPRM) that the FAA published in Federal Register on March 20, 2025, by correcting the geographic coordinates of a boundary point in proposed restricted areas R-5305A, R-5305B, and R-5305C; Camp Lejeune, NC. This action continues to propose restricted areas R-5307A, R-5307B, and R-5307C; Cherry Point, NC. The purpose of this proposal is to create additional restricted area airspace to connect restricted area R-5003, R-5004, and R-5306 complexes to contain hazardous activities such as weapon deployment, non-eye safe lasers, and artillery within larger contiguous restricted area airspace that is required to realistically simulate essential training mission tasks.

DATES: Comments must be received on or before July 18, 2025.

ADDRESSES: Send comments identified by FAA Docket No. FAA-2025-0273 and Airspace Docket No. 23-ASO-43 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it establishes restricted area airspace at Camp Lejeune, NC and Cherry Point, NC, to enhance aviation safety and accommodate essential United States (U.S.) Marine Corps training activities.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing. There is no need to re-post comments already submitted to this docket in connection with the earlier NPRM.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address, phone number, and hours of operation). An informal docket may also be examined during normal business hours at the office of the Eastern Service Center, Federal Aviation Administration, Room 210, 1701 Columbia Avenue, College Park, GA 30337.

Background

On March 20, 2025, the FAA issued an NPRM (90 FR 13112) in this docket. Subsequent to publication of the NPRM, the FAA identified that it incorrectly stated a geographic coordinate due to a rounding error. This geographic coordinate partially defines the northern boundary of restricted areas R-5305A, R-5305B, and R-5305C. As restricted areas R-5305A, R-5305B, and R-5305C are proposed to share the same lateral boundaries, updating this coordinate moves the northern boundary approximately 1 nautical mile north of the position listed in the NPRM. The point “lat. 34°41′00″ N, long. 077°24′59″ W” is changed to “lat. 34°42′00″ N, long. 077°24′59″ W” as originally intended. Additionally, the supporting graphic depicting the boundary of restricted area R-5305A, R-5305B, and R-5305C, overlaid on a sectional chart, correctly depicts the intended boundary.

Other components of the proposal from the original NPRM remain unchanged.

The Proposal

The FAA is proposing an amendment to 14 CFR part 73 to establish restricted areas R-5305A, R-5305B, and R-5305C; Camp Lejeune, NC. This additional restricted area airspace, combined with the existing restricted area R-5003, R-5004, and R-5306 complexes, would support USMC training and readiness requirements and would provide the contiguous restricted area airspace required to contain hazardous activities such as weapon deployment, non-eye safe lasers, and artillery necessary to conduct complex training scenarios required to realistically train to accomplish mission essential tasks.

Proposed restricted areas R-5305A, R-5305B, and R-5305C would share the same lateral boundaries. Restricted area R-5305A would be from the surface to but not including 7,000 feet MSL, excluding the airspace from the surface to 200 feet above ground level (AGL) within 200 feet either side of U.S. Highway 17. Published times of use would be Monday through Friday, 0600 to 2359 local time, other times of use would be published in a Notice to Airmen (NOTAM) at least 24 hours in advance. Restricted area R-5305A would be expected to be activated 8 hours per day, 150 days per year. Approximately 25 percent of the activation time would be during the hours of darkness, and approximately 5 percent of all activation would include fixed-wing operations.

Restricted area R-5305B would be from 7,000 feet (mean sea level) MSL to but not including 10,000 feet MSL. A NOTAM would publish the intermittent times of use of restricted area R-5305B. Restricted area R-5305B is expected to be activated 4 hours per day, 30 days per year. Approximately 25 percent of the activation time would be during the hours of darkness, and approximately 50 percent of the activation time would include fixed-wing operations.

Restricted area R-5305C would be from 10,000 feet MSL to but not including FL 180. A NOTAM would publish intermittent times of use of restricted area R-5305C. It is expected to be activated 4 hours per day, 30 days per year. Approximately 25 percent of the activation time would be during the hours of darkness, and approximately 50 percent of the activation time would include fixed-wing operations.

The full descriptions of the above restricted areas are set forth below in the proposed amendments to part 73. This action continues to propose restricted areas R-5307A, R-5307B, and R-5307C; Cherry Point, NC.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.53 North Carolina [Amended]

2. Section 73.53 is amended as follows:

* * * * *

R-5305A Camp Lejeune, NC [New]

Boundaries. Beginning at lat. 34°39′16″ N, long. 077°28′31″ W; to lat. 34°42′00″ N, long. 077°24′59″ W; to lat. 34°40′21″ N, long. 077°22′11″ W; to lat. 34°38′13″ N, long. 077°25′59″ W; to lat. 34°36′06″ N, long. 077°26′07″ W; to lat. 34°35′04″ N, long. 077°23′43″ W; to lat. 34°33′57″ N, long. 077°25′24″ W; to lat. 34°34′27″ N, long. 077°26′16″ W; to lat. 34°33′47″ N, long. 077°27′02″ W; to lat. 34°35′14″ N, long. 077°27′45″ W; to lat. 34°35′22″ N, long. 077°28′46″ W; to lat. 34°35′22″ N, long. 077°28′48″ W; to lat. 34°35′22″ N, long. 077°28′51″ W; to lat. 34°35′23″ N, long. 077°29′24″ W; to lat. 34°36′42″ N, long. 077°29′03″ W; to lat. 34°36′51″ N, long. 077°29′01″ W; to lat. 34°36′53″ N, long. 077°29′01″ W; to lat. 34°38′22″ N, long. 077°28′42″ W; to the point of beginning.

Designated altitudes. Surface to but not including 7,000 feet MSL, excluding the airspace from the surface to 200 feet AGL within 200 feet either side of U.S. Highway 17.

Time of designation. 0600-2359 local time, Monday-Friday; other times by NOTAM published at least 24 hours in advance.

Controlling agency. USMC, MCAS Cherry Point CERAP.

Using agency. USMC, Commanding General, Marine Corps Installations East-Marine Corps Base Camp Lejeune, NC.

R-5305B Camp Lejeune, NC [New]

Boundaries. Beginning at lat. 34°39′16″ N, long. 077°28′31″ W; to lat. 34°42′00″ N, long. 077°24′59″ W; to lat. 34°40′21″ N, long. 077°22′11″ W; to lat. 34°38′13″ N, long. 077°25′59″ W; to lat. 34°36′06″ N, long. 077°26′07″ W; to lat. 34°35′04″ N, long. 077°23′43″ W; to lat. 34°33′57″ N, long. 077°25′24″ W; to lat. 34°34′27″ N, long. 077°26′16″ W; to lat. 34°33′47″ N, long. 077°27′02″ W; to lat. 34°35′14″ N, long. 077°27′45″ W; to lat. 34°35′22″ N, long. 077°28′46″ W; to lat. 34°35′22″ N, long. 077°28′48″ W; to lat. 34°35′22″ N, long. 077°28′51″ W; to lat. 34°35′23″ N, long. 077°29′24″ W; to lat. 34°36′42″ N, long. 077°29′03″ W; to lat. 34°36′51″ N, long. 077°29′01″ W; to lat. 34°36′53″ N, long. 077°29′01″ W; to lat. 34°38′22″ N, long. 077°28′42″ W; to the point of beginning.

Designated altitudes. 7,000 feet MSL to but not including 10,000 feet MSL.

Time of designation. Intermittent by NOTAM.

Controlling agency. USMC, MCAS Cherry Point CERAP.

Using agency. USMC, Commanding General, Marine Corps Installations East-Marine Corps Base Camp Lejeune, NC.

R-5305C Camp Lejeune, NC [New]

Boundaries. Beginning at lat. 34°39′16″ N, long. 077°28′31″ W; to lat. 34°42′00″ N, long. 077°24′59″ W; to lat. 34°40′21″ N, long. 077°22′11″ W; to lat. 34°38′13″ N, long. 077°25′59″ W; to lat. 34°36′06″ N, long. 077°26′07″ W; to lat. 34°35′04″ N, long. 077°23′43″ W; to lat. 34°33′57″ N, long. 077°25′24″ W; to lat. 34°34′27″ N, long. 077°26′16″ W; to lat. 34°33′47″ N, long. 077°27′02″ W; to lat. 34°35′14″ N, long. 077°27′45″ W; to lat. 34°35′22″ N, long. 077°28′46″ W; to lat. 34°35′22″ N, long. 077°28′48″ W; to lat. 34°35′22″ N, long. 077°28′51″ W; to lat. 34°35′23″ N, long. 077°29′24″ W; to lat. 34°36′42″ N, long. 077°29′03″ W; to lat. 34°36′51″ N, long. 077°29′01″ W; to lat. 34°36′53″ N, long. 077°29′01″ W; to lat. 34°38′22″ N, long. 077°28′42″ W; to the point of beginning.

Designated altitudes. 10,000 feet MSL to but not including FL 180.

Time of designation. Intermittent by NOTAM.

Controlling agency. FAA, Washington ARTCC.

Using agency. USMC, Commanding General, Marine Corps Installations East-Marine Corps Base Camp Lejeune, NC.

* * * * *

Issued in Washington, DC, on June 16, 2025.
Brian Eric Konie,
Manager (A), Rules and Regulations Group.

[FR Doc. 2025-11220 Filed 6-17-25; 8:45 am]

BILLING CODE 4910-13-P